DEPARTMENT OF ENERGY

Federal Energy Regulatory Commission

[Docket Nos. CP18-549-001 CP22-162-000]

Notice of Application for Limited Amendment to Abandonment Authorization; Equitrans, L.P.

Take notice that on April 12, 2022, Equitrans, L.P. (Equitrans), 2200 Energy Drive, Canonsburg, PA 15317, filed in the above referenced dockets, an application pursuant to Section 7(b) of the Natural Gas Act (NGA) and Part 157 of the Commission's regulations for a limited amendment to the existing abandonment authorization issued by the Commission on March 20, 2019 in Docket No. CP18-549-000. Those actions authorized Equitrans to abandon a series of eighteen injection and withdrawal (I/W) wells in Swarts Complex by sale, abandon the associated well lines in place, and abandon any associated appurtenant facilities. The facilities are located in Greene County, Pennsylvania. Since the issuance of the Abandonment Authorization, Equitrans has abandoned four of the originally authorized eighteen injection/withdrawal wells by sale to CONSOL Pennsylvania Coal Company LLC, CONSOL Mining Company LLC, CNX Gas Company LLC (collectively, CONSOL): 603777 (abandoned 2019); 603628 (abandoned 2020); 603785 (abandoned 2021); and 603626 (abandoned 2021).

The Pennsylvania Department of Environmental Protection's (PADEP) mine proximity setback regulation requires wells within 2,000 feet of coal mining activities to be plugged/abandoned or reconditioned. Equitrans states that due to further compliance with the PADEP's regulations, it now proposes to perform the plugging and abandonment of five of the remaining fourteen wells itself rather than transferring those wells and that function to CONSOL. In this amendment, Equitrans now proposes to plug and abandon five injection and withdrawal wells in Equitrans' Swarts Storage Field; numbers: 603791, 603792, 603793, 603795 and 603797, as more fully set forth in the request which is on file with the Commission and open to public inspection.

In addition to publishing the full text of this document in the Federal Register, the Commission provides all interested persons an opportunity to view and/or print the contents of this document via the internet through the Commission's Home Page (https://ferc.gov) using the “eLibrary” link. Enter the docket number excluding the last three digits in the docket number field to access the document. At this time, the Commission has suspended access to the Commission's Public Reference Room, due to the proclamation declaring a National Emergency concerning the Novel Coronavirus Disease (COVID-19), issued by the President on March 13, 2020. For assistance, contact FERC at FERCOnlineSupport@ferc.gov or call toll-free, (886) 208-3676 or TYY, (202) 502-8659.

Any questions regarding this filing should be directed to Matthew Eggerding, Assistant General Counsel, at Equitrans, L.P., 2200 Energy Drive, Canonsburg, PA 15317; by phone at (412) 553-5786; or by email to Meggerding@equitransmidstream.com.

Pursuant to section 157.9 of the Commission's Rules of Practice and Procedure,¹ within 90 days of this Notice the Commission staff will either: Complete its environmental review and place it into the Commission's public record (eLibrary) for this proceeding; or issue a Notice of Schedule for Environmental Review. If a Notice of Schedule for Environmental Review is issued, it will indicate, among other milestones, the anticipated date for the Commission staff's issuance of the final environmental impact statement (FEIS) or environmental assessment (EA) for this proposal. The filing of an EA in the Commission's public record for this proceeding or the issuance of a Notice of Schedule for Environmental Review will serve to notify federal and state agencies of the timing for the completion of all necessary reviews, and the subsequent need to complete all federal authorizations within 90 days of the date of issuance of the Commission staff's FEIS or EA.

¹ 18 CFR (Code of Federal Regulations) § 157.9.

Public Participation

There are three ways to become involved in the Commission's review of this project: You can file a protest to the project, you can file a motion to intervene in the proceeding, and you can file comments on the project. There is no fee or cost for filing protests, motions to intervene, or comments. The deadline for filing protests, motions to intervene, and comments is 5:00 p.m. Eastern Time on May 6, 2022. How to file protests, motions to intervene, and comments is explained below.

Protests

Pursuant to section 157.205 of the Commission's regulations under the NGA,² any person ³ or the Commission's staff may file a protest to the request. If no protest is filed within the time allowed or if a protest is filed and then withdrawn within 30 days after the allowed time for filing a protest, the proposed activity shall be deemed to be authorized effective the day after the time allowed for protest. If a protest is filed and not withdrawn within 30 days after the time allowed for filing a protest, the instant request for authorization will be considered by the Commission.

² 18 CFR 157.205.

³ Persons include individuals, organizations, businesses, municipalities, and other entities. 18 CFR 385.102(d).

Protests must comply with the requirements specified in section 157.205(e) of the Commission's regulations,⁴ and must be submitted by the protest deadline, which is May 6, 2022. A protest may also serve as a motion to intervene so long as the protestor states it also seeks to be an intervenor.

⁴ 18 CFR 157.205(e).

Interventions

Any person has the option to file a motion to intervene in this proceeding. Only intervenors have the right to request rehearing of Commission orders issued in this proceeding and to subsequently challenge the Commission's orders in the U.S. Circuit Courts of Appeal.

To intervene, you must submit a motion to intervene to the Commission in accordance with Rule 214 of the Commission's Rules of Practice and Procedure ⁵ and the regulations under the NGA ⁶ by the intervention deadline for the project, which is May 6, 2022. As described further in Rule 214, your motion to intervene must state, to the extent known, your position regarding the proceeding, as well as your interest in the proceeding. For an individual, this could include your status as a landowner, ratepayer, resident of an impacted community, or recreationist. You do not need to have property directly impacted by the project in order to intervene. For more information about motions to intervene, refer to the FERC website at https://www.ferc.gov/resources/guides/how-to/intervene.asp.

⁵ 18 CFR 385.214.

⁶ 18 CFR 157.10.

All timely, unopposed ⁷ motions to intervene are automatically granted by operation of Rule 214(c)(1).⁸ Motions to intervene that are filed after the intervention deadline are untimely and may be denied. Any late-filed motion to intervene must show good cause for being late and must explain why the time limitation should be waived and provide justification by reference to factors set forth in Rule 214(d) of the Commission's Rules and Regulations.⁹ A person obtaining party status will be placed on the service list maintained by the Secretary of the Commission and will receive copies (paper or electronic) of all documents filed by the applicant and by all other parties.

⁷ The applicant has 15 days from the submittal of a motion to intervene to file a written objection to the intervention.

⁸ 18 CFR 385.214(c)(1).

⁹ 18 CFR 385.214(b)(3) and (d).

Comments

Any person wishing to comment on the project may do so. The Commission considers all comments received about the project in determining the appropriate action to be taken. To ensure that your comments are timely and properly recorded, please submit your comments on or before May 6, 2022. The filing of a comment alone will not serve to make the filer a party to the proceeding. To become a party, you must intervene in the proceeding.

How To File Protests, Interventions, and Comments

There are two ways to submit protests, motions to intervene, and comments. In both instances, please reference the Project docket number CP22-162-000 in your submission.

(1) You may file your protest, motion to intervene, and comments by using the Commission's eFiling feature, which is located on the Commission's website (www.ferc.gov) under the link to Documents and Filings. New eFiling users must first create an account by clicking on “eRegister.” You will be asked to select the type of filing you are making; first select General” and then select “Protest”, “Intervention”, or “Comment on a Filing”.

The Commission's eFiling staff are available to assist you at (202) 502-8258 or FercOnlineSupport@ferc.gov.

(2) You can file a paper copy of your submission. Your submission must reference the Project docket number CP22-162-000.

To mail via USPS, use the following address: Kimberly D. Bose, Secretary, Federal Energy Regulatory Commission, 888 First Street NE, Washington, DC 20426.

To mail via any other courier, use the following address: Kimberly D. Bose, Secretary, Federal Energy Regulatory Commission, 12225 Wilkins Avenue, Rockville, Maryland 20852.

Protests and motions to intervene must be served on the applicant either by mail at: Matthew Eggerding, Assistant General Counsel, at Equitrans, L.P., 2200 Energy Drive, Canonsburg, PA 15317 or email (with a link to the document) at: Meggerding@equitransmidstream.com. Any subsequent submissions by an intervenor must be served on the applicant and all other parties to the proceeding. Contact information for parties can be downloaded from the service list at the eService link on FERC Online.

Tracking the Proceeding

Throughout the proceeding, additional information about the project will be available from the Commission's Office of External Affairs, at (866) 208-FERC, or on the FERC website at www.ferc.gov using the “eLibrary” link as described above. The eLibrary link also provides access to the texts of all formal documents issued by the Commission, such as orders, notices, and rulemakings.

In addition, the Commission offers a free service called eSubscription which allows you to keep track of all formal issuances and submittals in specific dockets. This can reduce the amount of time you spend researching proceedings by automatically providing you with notification of these filings, document summaries, and direct links to the documents. For more information and to register, go to www.ferc.gov/docs-filing/esubscription.asp.

Intervention Deadline: 5:00 p.m. Eastern Time on May 6, 2022.

Dated: April 15, 2022.
Debbie-Anne A. Reese,
Deputy Secretary.

[FR Doc. 2022-08553 Filed 4-21-22; 8:45 am]

BILLING CODE 6717-01-P